DEPARTMENT OF COMMERCE

National Oceanic and Atmospheric Administration

50 CFR Part 660

[Docket No. 040429134-4135-01; I.D. 111004A]

Fisheries Off West Coast States and in the Western Pacific; West Coast Salmon Fisheries; Inseason Action #15—Adjustments of the Commercial Fishery from the U.S.-Canada Border to Cape Falcon, Oregon

AGENCY: National Marine Fisheries Service (NMFS), National Oceanic and Atmospheric Administration (NOAA), Commerce.

ACTION: Closure and Modification of fishing seasons; request for comments.

SUMMARY: NMFS announces that the commercial salmon fishery in the subarea from the Queets River, WA to Cape Falcon OR, was projected to reach its 10,000 coho quota and was closed effective at midnight on Tuesday, September 7, 2004. In addition, regulations for the commercial salmon fishery in the subarea from the U.S.-Canada Border to the Queets River, were modified to open the fishery September 8 through the earlier of September 15, or a subarea quota of 8,000 marked coho, with a landing and possession limit of 125 chinook per vessel for the 8-day open period. These actions were necessary to conform to the 2004 management goals.

DATES: Closure of the area from the Queets River, WA to Cape Falcon, OR, effective 2359 hours local time (l.t.) September 7, 2004; the area from the U.S.-Canada Border to the Queets River, WA, was reopened effective 0001 hours l.t. September 8, 2004, until the chinook quota or coho quota is taken, or 2359 hours l.t., September 15, 2004; after which the fishery will remain closed until opened through an additional inseason action for the west coast salmon fisheries, which will be published in the Federal Register, or until the effective date of the next scheduled open period announced in the 2005 annual management measures. Comments will be accepted through December 3, 2004.

ADDRESSES: Comments on these actions must be mailed to D. Robert Lohn, Regional Administrator, Northwest Region, NMFS, NOAA, 7600 Sand Point Way N.E., Bldg. 1, Seattle, WA 98115-0070; or faxed to 206-526-6376; or Rod McInnis, Regional Administrator, Southwest Region, NMFS, NOAA, 501 W. Ocean Blvd., Suite 4200, Long Beach, CA 90802-4132; or faxed to 562-980-4018. Comments can also be submitted via e-mail at the 2004salmonIA15.nwr@noaa.gov address, or through the internet at the Federal eRulemaking Portal: http://www.regulations.gov. Follow the instructions for submitting comments, and include [Docket number and/or RIN number] in the subject line of the message. Information relevant to this document is available for public review during business hours at the Office of the Regional Administrator, Northwest Region, NMFS.

FOR FURTHER INFORMATION CONTACT: Christopher Wright, 206-526-6140.

SUPPLEMENTARY INFORMATION: The NMFS Regional Administrator (RA) closed the commercial salmon fishery in the subarea from the Queets River, WA to Cape Falcon, OR, effective at midnight on Tuesday, September 7, 2004. In addition, the commercial salmon fishery in the subarea from the U.S.-Canada Border to the Queets River, was modified to open September 8 through the earlier of September 15, or a subarea quota of 8,000 marked coho, with a landing and possession limit of 125 chinook per vessel for the eight-day open period. On September 7, 2004, the Regional Administrator determined the available catch and effort data indicated that the adjusted subarea quota of 10,000 coho salmon for the subarea from the Queets River, WA to Cape Falcon, OR would be reached. The data also indicated the restriction for the subarea from the U.S.-Canada Border to the Queets River to be open only from Wednesday through Sunday could be modified so the area could remain open for 8 days until the end of the scheduled season without exceeding any conservation objectives established preseason.

All other restrictions remained in effect as announced for 2004 ocean salmon fisheries and previous inseason actions. These actions were necessary to conform to the 2004 management goals. Automatic season closures based on quotas are authorized by regulations at 50 CFR 660.409(a)(1). Modification of quotas and/or fishing seasons is authorized by regulations at 50 CFR 660.409(b)(1)(i). Modification of the species that may be caught and landed during specific seasons and the establishment or modification of limited retention regulations are authorized by regulations at 50 CFR 660.409(b)(1)(ii).

In the 2004 annual management measures for ocean salmon fisheries (69 FR 25026, May 5, 2004), NMFS announced the commercial fishery for all salmon in the area from the U.S.-Canada Border to Cape Falcon, OR would open July 8 through the earlier of September 15, or a 14,700-chinook preseason guideline, or a 67,500-coho quota. The 67,500-coho quota included a subarea quota of 8,000 coho for the area between the U.S.-Canada border and the Queets River, WA. The fishery was scheduled to be open Thursday through Monday prior to August 11, and Wednesday through Sunday thereafter, with the restriction that no vessel may possess, land, or deliver more than 125 chinook for each 5-day open period.

The fishery in the area from the U.S.-Canada Border to Cape Falcon, OR was modified by Inseason Action #5 to open July 8 and close at midnight on July 12, 2004, then to reopen on July 16 through midnight on July 19, 2004, with the provision that no vessel may possess, land, or deliver more than 100 chinook for each open period (69 FR 43345, July 20, 2004). The fishing season was modified to slow the chinook catch rate and avoid exceeding the chinook quota. The fishery was scheduled to be reevaluated by an inseason conference call on July 14, and any further adjustments announced.

The fishery in the area from the U.S.-Canada Border to Cape Falcon, OR was modified by Inseason Action #6 to a revised landing provision that no vessel may possess, land, or deliver more than 125 chinook for the open period of July 16 through July 19, 2004 (69 FR 51609, August 20, 2004). The fishery then reverted back to the regulations as announced preseason for 2004 ocean salmon fisheries and was scheduled to continue until the chinook quota or coho quota were taken, or September 15, which ever was earlier. Consistent with the preseason schedule the fishery was reopened on July 22, with an open cycle of Thursday through Monday prior to August 11, and Wednesday through Sunday thereafter, and a landing and possession limit of 125 chinook per vessel per each 5-day open period.

The commercial salmon fishery in the area from the Queets River to Cape Falcon, OR was modified by Inseason Action #11 effective September 1, 2004, to allow for the retention of all legal sized coho with a landing provision that no vessel may possess, land, or deliver more than 500 coho for each 5-day open period until the earlier of September 15 or a quota of 10,000 coho (69 FR 63333, November 1, 2004). Unmarked coho could only be possessed and landed in the area from the Queets River to Cape Falcon. In addition, 20,000 coho from the quota of the commercial fishery from the U.S.-Canada Border to Cape Falcon was traded for 5,000 chinook from the recreational salmon fishery from the Queets River to Leadbetter Point, WA (Westport Subarea) guideline.

On September 7, 2004, the RA consulted with representatives of the Pacific Fishery Management Council, Washington Department of Fish and Wildlife, and Oregon Department of Fish and Wildlife by conference call. Information related to catch and effort data indicated that it was likely that the commercial salmon fishery in the subarea from the Queets River, WA, to Cape Falcon, OR, would reach its 10,000 coho quota by midnight. The data also indicated the restriction for the subarea from the U.S.-Canada Border to the Queets River to be open only from Wednesday through Sunday could be modified so the area could remain open for 8 days until the end of the scheduled season without exceeding any conservation objectives established preseason. As a result, on September 7 the states recommended, and the RA concurred, that the commercial salmon fishery in the area from the Queets River to Cape Falcon be closed effective at midnight on September 7, 2004, and that the commercial salmon fishery in the subarea from the U.S.-Canada Border to the Queets River, be modified to open September 8 through the earlier of September 15, or a subarea quota of 8,000 marked coho, with a landing and possession limit of 125 chinook per vessel for the eight-day open period. All other restrictions that apply to these fisheries remained in effect as announced in the 2004 annual management measures and previous inseason actions.

The RA determined that the best available information indicated that the catch and effort data, and projections, supported the above inseason actions recommended by the states. The states manage the fisheries in state waters adjacent to the areas of the U.S. exclusive economic zone in accordance with these Federal actions. As provided by the inseason notice procedures of 50 CFR 660.411, actual notice to fishers of the above described regulatory actions were given, prior to the time the action was effective, by telephone hotline number 206-526-6667 and 800-662-9825, and by U.S. Coast Guard Notice to Mariners broadcasts on Channel 16 VHF-FM and 2182 kHz.

These actions do not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of the regulatory actions were provided to fishers through telephone hotline and radio notification. These actions comply with the requirements of the annual management measures for ocean salmon fisheries (69 FR 25026, May 5, 2004), the West Coast Salmon Plan, and regulations implementing the West Coast Salmon Plan 50 CFR 660.409 and 660.411. Prior notice and opportunity for public comment was impracticable because NMFS and the state agencies have insufficient time to provide for prior notice and the opportunity for public comment between the time the fishery catch and effort data are collected to determine the extent of the fisheries, and the time the fishery closure must be implemented to avoid exceeding the quota, or the time the fishery modifications had to be implemented in order to allow fishers access to the available fish at the time the fish were available. Because of the rate of harvest in this fishery, failure to close the fishery upon attainment of the quota would allow the quota to be exceeded, resulting in fewer spawning fish and possibly reduced yield of the stocks in the future. In addition, the action also relieved a restriction by modifying a subarea regulation to be open 7 days per week instead of 5 days per week, thus providing additional harvest opportunity. For the same reasons, the AA also finds good cause to waive the 30-day delay in effectiveness required under U.S.C. 553(d)(3).

These actions are authorized by 50 CFR 660.409 and 660.411 and are exempt from review under Executive Order 12866.

Authority: 16 U.S.C. 1801 et seq.

Dated: November 12, 2004.
Alan D. Risenhoover,
Acting Director, Office of Sustainable Fisheries, National Marine Fisheries Service.

[FR Doc. 04-25642 Filed 11-17-04; 8:45 am]

BILLING CODE 3510-22-S